DEPARTMENT OF JUSTICE

Notice of Lodging of Proposed Consent Decree Under the Comprehensive Environmental Response, Compensation, and Liability Act

On May 16, 2018, the Department of Justice lodged a proposed consent decree with the United States District Court for the Southern District of Georgia in the lawsuit entitled United States v. Hercules LLC, Civil Action No. 2:18-cv-00062-LGW-RSB.

The United States, on behalf of the U.S. Environmental Protection Agency (EPA), filed this lawsuit under the Comprehensive Environmental Response, Compensation, and Liability Act (CERCLA). The complaint seeks performance of interim response action at the outfall of the Terry Creek Dredge Spoil Areas/Hercules Outfall Site (“Site”) in Brunswick, in Glynn County, Georgia. The outfall is known as “Operable Unit 1,” one of three operable units at the Site. The complaint also seeks recovery of the United States' past response costs and future response costs at the Site.

The proposed consent decree requires defendant Hercules LLC to implement the interim remedy selected by EPA for Operable Unit 1, which is estimated to cost $4,488,450. The consent decree also requires the defendant to pay $153,009.48 in past response costs at the Site, and to pay future response costs incurred by the United States in connection with this consent decree, as described in the consent decree.

The publication of this notice opens a period for public comment on the consent decree. Comments should be addressed to the Assistant Attorney General, Environment and Natural Resources Division, and should refer to United States v. Hercules, LLC, D.J. Ref. No. 90-11-3-11685. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $146.25 (25 cents per page reproduction cost) payable to the United States Treasury. For a paper copy without the exhibits and signature pages, the cost is $17.25.

Henry S. Friedman,
Assistant Section Chief, Environmental Enforcement Section, Environment and Natural Resources Division.

[FR Doc. 2018-10983 Filed 5-22-18; 8:45 am]

BILLING CODE 4410-15-P